ENVIRONMENTAL PROTECTION AGENCY

[EPA-HQ-OPP-2011-0038; FRL-8885-7]

Sheena Shipley; Transfer of Data

AGENCY: Environmental Protection Agency (EPA).

ACTION: Notice.

SUMMARY: This notice announces that pesticide related information submitted to EPA's Office of Pesticide Programs (OPP) pursuant to the Federal Insecticide, Fungicide, and Rodenticide Act (FIFRA) and the Federal Food, Drug, and Cosmetic Act (FFDCA), including information that may have been claimed as Confidential Business Information (CBI) by the submitter, will be transferred to Sheena Shipley in accordance with 40 CFR 2.307(h)(3) and 2.308(i)(2). Sheena Shipley has been awarded multiple contracts to perform work for OPP, and access to this information will enable Sheena Shipley to fulfill the obligations of the contract.

DATES: Sheena Shipley will be given access to this information on or before August 29, 2011.

FOR FURTHER INFORMATION CONTACT: Mario Steadman, Information Technology and Resources Management Division (7502P), Office of Pesticide Programs, Environmental Protection Agency, 1200 Pennsylvania Ave., NW., Washington, DC 20460-0001; telephone number: (703) 305-8338, steadman.mario@epa.gov.

SUPPLEMENTARY INFORMATION:

I. General Information

A. Does this action apply to me?

This action applies to the public in general. As such, the Agency has not attempted to describe all the specific entities that may be affected by this action. If you have any questions regarding the applicability of this action to a particular entity, consult the person listed under FOR FURTHER INFORMATION CONTACT.

B. How can I get copies of this document and other related information?

EPA has established a docket for this action under docket identification (ID) number EPA-HQ-OPP-2011-0038. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. Contractor Requirements

Under Contract No. EP-ll-J-000038 (Student Services Contract), Sheena Shipley will analyze chemical form and concentration in sub-cellular samples, tissues, and exposure media, and prepare solutions for chemical dosing and concentration analyses as requested. The student will process and analyze samples using a variety of analytical instrumentation which may include Liquid Chromatography and Gas Chromatography using a variety of detectors. The student will assist in general laboratory activities which may include one or more of the following: Conducting routine chemical and biochemical analyses, preparation of common reagents, and cleaning of laboratory glassware. The student shall maintain careful and accurate records in a laboratory notebook, record results in summary spreadsheets, write-up summary reports of sample analyses following provided guidance, and participate in research group meetings. The student will assist in the review and entry of chemical structural information in databases as required. The notebook and all other data produced under this contract will be the property of the Environmental Protection Agency.

This contract involves no subcontractors.

OPP has determined that the contract described in this document involves work that is being conducted in connection with FIFRA, in that pesticide chemicals will be the subject of certain evaluations to be made under this contract. These evaluations may be used in subsequent regulatory decisions under FIFRA.

Some of this information may be entitled to confidential treatment. The information has been submitted to EPA under sections 3, 4, 6, and 7 of FIFRA and under sections 408 and 409 of FFDCA.

In accordance with the requirements of 40 CFR 2.307(h)(3), the contract with Sheena Shipley, prohibits use of the information for any purpose not specified in the contract; prohibits disclosure of the information to a third party without prior written approval from the Agency; and requires that each official and employee of the contractor sign an agreement to protect the information from unauthorized release and to handle it in accordance with the FIFRA Information Security Manual. In addition, Sheena Shipley is required to submit for EPA approval a security plan under which any CBI will be secured and protected against unauthorized release or compromise. No information will be provided to Sheena Shipley until the requirements in this document have been fully satisfied. Records of information provided to Sheena Shipley will be maintained by the EPA Project Officer for this contract. All information supplied to Sheena Shipley by EPA for use in connection with this contract will be returned to EPA when Sheena Shipley has completed the work.

List of Subjects

Environmental protection, Business and industry, Government contracts, Government property, Security measures.

Dated: August 16, 2011.
Michael Hardy,
Acting Director, Office of Pesticide Programs.

[FR Doc. 2011-21539 Filed 8-23-11; 8:45 am]

BILLING CODE 6560-50-P